NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by November 5, 2002. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation,as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

The applications received are as follows:

[Permit Application No. 2003-013]

1. Applicant: Arthur L. DeVries, 524 Burrill Hall, Department of Animal Biology, University of Illinois, Urbana, IL 61801.

Activity for Which Permit is Requested: Introduce non-indigenous species into Antarctica. The applicant plans to bring approximately 5 million frozen brine shrimp (Artemia franciscana) egg cysts to Antarctica to be used as food for Antarctic larval fishes. The brine shrimp will be hatched in +20°C seawater in incubators in the Crary Science and Engineering Center at McMurdo Station. The hatched larva will be concentrated to the consistency of a thick soup, frozen into 2 cubic centimeter cubes at −80°C and fed to Dragon fish larva (Gymonodraco acuticeps). The larva will be held in small running seawater aquaria with the outlet screened with a mesh sufficiently small to prevent escape of the dead brine shrimp, as well as the fish larva. Residual dead brine shrimp will be retrieved from the aquaria, autoclaved and disposed of as biological waste.

Location: Crary Science and Engineering Center, McCrudo Station, Antarctica.

Dates: November 5, 2002 to February 28, 2003.

[Permit Application No. 2033-014]

2. Applicant: Gary D. Miller, Biology Department, University of New Mexico, Albuquerque, NM 87131.

Activity for Which Permit is Requested: Take and Import into the United States. The applicant plans to continue analysis of the phylogenetic relationships, population genetics, and diseases of Antarctic seabirds. The applicant will embark on a circumnavigation cruise of the Antarctic this season and plans to collect small tissue samples from fresh or frozen carcasses of various seabirds, with a main focus on collecting samples from Emperor penguin carcasses. The cruise will allow access to a number of Emperor penguin rookeries, as well as other sites. No more than fifteen samples will be collected from a single site. Tissue samples will be homogenized and put into a buffer solution to stabilize the DNA. As part of this collaborative work, chick carcasses will be inspected for the presence of Bursa of Fabricius, which will be excised and preserved for PCR testing for the presence of viruses. The Bursa samples will be returned to Dr. Geoff Shellam's lab in Perth, Australia, whereas all other samples will be imported to the U.S. and processed at the University of New Mexico.

Location: Balleny Islands, Shirley Island, Haswell Island, Vestfold Hills, Larsemann Hills, Scullin and Murray Monoliths, Cape Darnley, Auster Rookery, Kloa Point, Proclamation Island, Lazarev Ice Shelf, Atka Bay, Elephant Island, Pourquoi Pas Island, Cape Hallett, and Cape Adare.

Dates: November 15, 2002 to November 15, 2003.

[Permit Application No. 2003-014]

3. Applicant: Joan Miller, P.O. Box 237, Tesuque, NM 87574.

Activity for Which Permit is Requested: Enter Antarctica Specially Protected Areas. The applicant proposes to enter several ASPA's on Ross Island to photograph the exterior and interior of the historic huts. The photographs will be used to illustrate the efforts to preserve historic materials from attack by fungi and bacteria. In addition, images will be used in a book documenting the history of human habitation in Antarctica, and will chronicle the use of various materials used for structures, clothing, transport, and communication from the early 1900's through the present.

Location:

ASPA #154—Cape Evans Historic Site

ASPA #156—Hut and Associated artifacts, Backdoor Bay, Cape Royds, Ross Island

ASPA #157—Discovery Hut, Hut Point, Ross Island

Dates: October 7, 2002 to January 23, 2003.

Nadene G. Kennedy,
Permit Officer, Office of Polar Programs.

[FR Doc. 02-26029 Filed 10-10-02; 8:45 am]

BILLING CODE 7555-01-M